DEPARTMENT OF THE INTERIOR

National Park Service

[NPS-WASO-NAGPRA-NPS0038529; PPWOCRADN0-PCU00RP14.R50000]

Notice of Inventory Completion: University of North Dakota, Grand Forks, ND

AGENCY: National Park Service, Interior.

ACTION: Notice.

SUMMARY: In accordance with the Native American Graves Protection and Repatriation Act (NAGPRA), the University of North Dakota (UND) has completed an inventory of human remains and associated funerary objects and has determined that there is a cultural affiliation between the human remains and associated funerary objects and Indian Tribes or Native Hawaiian organizations in this notice.

DATES: Repatriation of the human remains and associated funerary objects in this notice may occur on or after September 20, 2024.

ADDRESSES: Dr. Crystal Alberts, University of North Dakota, Twamley Hall Room 300, 264 Centennial Drive, Grand Forks, ND 58202, phone (701) 777-2393, email und.nagpra@und.edu.

SUPPLEMENTARY INFORMATION: This notice is published as part of the National Park Service's administrative responsibilities under NAGPRA. The determinations in this notice are the sole responsibility of the University of North Dakota, and additional information on the determinations in this notice, including the results of consultation, can be found in the inventory or related records. The National Park Service is not responsible for the determinations in this notice.

Abstract of Information Available

In October of 1974, gravel quarrying operations in Marshall County, MN, inadvertently disturbed a multi-person burial from site 21MA10. Former UND faculty member Lawrence L. Loendorf and former UND student Gary T. Scott oversaw the removal of human remains along with 110 associated funerary objects consisting of one sample of charcoal, one arrow shaft straightener, two ground stone tools, 12 chipped stone tools, and 94 chipped stone flakes and flaking debris. The human remains were donated by K. Lund to the Minnesota Historical Society. The associated burial items were found in UND's Department of Anthropology in March 2022. UND has no record of any potentially hazardous substances being used to treat the associated funerary objects described.

Based on information available, human remains of, at least, one individual has been reasonably identified, along with 373 associated funerary objects, consisting of 331 faunal bones or faunal bone fragments, 32 natural rocks, and 10 pieces of botanical material, which were excavated from site 24YL608 in Yellowstone County, MT. In June 1972, former UND faculty member Lawrence L. Loendorf removed the described human remains and associated funerary objects from this site and brought them back to UND. These human remains and the associated funerary objects were found in UND's Department of Anthropology in March 2022. UND has no record of any potentially hazardous substances being used to treat the human remains or associated funerary objects described.

Based on information available, human remains representing, at least, one individual being reasonably identified were taken from a mound near Arvilla, site 32GF1 in Grand Forks County, ND. In 1907, a man believed to be identified as E.K. Kennedy, an employee of the Road Division of the Great Northern Railway, provided the described human remains to an unidentified UND faculty member. Associated documentation notes, “[t]here was a copper [illegible] wired to the skull marked with peculiar hieroglyphics.” These human remains were found at the UND School of Medicine and Health Sciences in Spring 2022. No associated funerary objects are present. UND has no record of any potentially hazardous substances being used to treat the human remains described.

On May 13, 1947, former UND faculty member Gordon W. Hewes excavated a mound identified as 32GF4 in Grand Forks County, ND. Based on the information available, human remains representing, at least, two individuals have been reasonably identified. The remains were found on UND's campus in August 2022 with a card that includes geolocational information which states: “The bodies of several persons were presented in this much disturbed burial place.” Additionally, two associated funerary objects were found with these human remains, consisting of two fragments of faunal bone. UND has no record of any potentially hazardous substances being used to treat the human remains or associated funerary objects described.

In 1963, site 32GF10, the “Hegre Mound” in Grand Forks County, ND, was excavated by the landowner and local residents under the direction of Louis R. Thompson, Northwood Historical Museum, Northwood, ND, and Edward A. Milligan, historian, North Dakota State School of Forestry, Bottineau, ND. In 1967, Kenneth Cole, former UND faculty member, conducted a survey at site 32GF10. Available documentation indicates an exchange of information between Thompson, Milligan, and Cole, as well as a possible transfer of materials from Milligan and Thompson to Cole. Of the materials excavated at the site, three associated funerary objects, consisting of two faunal bone fragments and one piece of Knife River Flint, were found in UND's Department of Anthropology in March 2022. UND has no record of any potentially hazardous substances being used to treat the associated funerary objects described.

In August 1967, Kenneth Cole, former UND faculty member, and a field crew conducted a survey of a mound at site 32GF305 in Grand Forks County, ND, the “Colony Mound.” Cole collected 34 associated funerary objects, consisting of one lithic point, one lithic biface, three chipped stone flaking debris, seven faunal bone fragments, and 22 shell beads. These items were found in UND's Department of Anthropology in March 2022. UND has no record of any potentially hazardous substances being used to treat the associated funerary objects described.

In 1967, Kenneth Cole, former UND faculty member, conducted a survey of a mound at site 32GF307 in Grand Forks County, ND. Cole collected 25 associated funerary objects consisting of 14 faunal bone and teeth fragments, eight pieces of chipped stone flaking debris, two lithic tools (scrapers), and one ceramic sherd. These items were found in UND's Department of Anthropology in March 2022. UND has no record of any potentially hazardous substances being used to treat the associated funerary objects described.

In 1967, Kenneth Cole, former UND faculty member conducted a survey of a mound at site 32GF308, in Grand Forks County, ND, the “Gruszie Mound.” Based on information available, Cole collected human remains representing, at least, one individual, being reasonably identified, along with 29 associated funerary objects consisting of 14 faunal bone fragments, one chipped stone tool, and 14 pieces of chipped stone flakes and flaking debris. The human remains and associated objects were found in UND's Department of Anthropology in March 2022. UND has no record of any potentially hazardous substances being used to treat the human remains or associated funerary objects described.

In 1967, Kenneth Cole, former UND faculty member conducted a survey of a mound at site 32GF322 in Grand Forks County, ND. The items collected by Cole are labeled as being from a “possible mound.” The 23 associated funerary objects consist of two lithic cores, 14 pieces of chipped stone flaking debris, and seven faunal bone and tooth fragments from a large mammal. The items listed were found in UND's Department of Anthropology in March 2022. UND has no record of any potentially hazardous substances being used to treat the associated funerary objects described.

In 1979, during topsoil borrowing activities, a burial at site 32ME378 in Mercer County, ND, was inadvertently disturbed by a contractor. The human remains and associated funerary objects described below were collected by former UND faculty member Stanley A. Ahler. Based on information available human remains representing, at least, one individual, has been reasonably identified, along with 19 associated funerary objects, consisting of 10 faunal bone fragments, one ceramic sherd, one thermally altered rock, one lithic core, and six chipped stone flakes and flaking debris. The human remains and the associate funerary items were found in UND's Department of Anthropology in March 2022. UND has no record of any potentially hazardous substances being used to treat the human remains or associated funerary objects described.

In 1977, former UND faculty member Stanley A. Ahler, while leading a National Park Service Field School, collected items exposed on the surface at site 32ML405 in McLean County, ND. Based on the information available, human remains representing, at least, one individual has been reasonably identified, along with 261 associated funerary objects consisting of one dark red piece of pumice, 212 chipped stone flakes and flaking debris, three lithic cores, three chipped stone tools, 40 fragments of faunal bone, one post-contact ceramic rim sherd, and one glass bottle neck were removed from this site. These human remains and the associated funerary objects were found in UND's Department of Anthropology in March 2022. UND has no record of any potentially hazardous substances being used to treat the human remains or associated funerary objects described.

In August 1967, a box containing human remains and associated funerary objects was left in UND's Leonard Hall, and UND's Department of Anthropology was notified. It was later learned that the human remains and associated funerary objects were part of an inadvertent disinterment at site 32NE301, the “Lakota Site,” located in Nelson County, ND. The 12 associated funerary objects consisting of one bison tooth fragment, five beaver tooth fragments, two shell beads, and all or part of four shell pendants were found in UND's Department of Anthropology in March 2022. The location of the human remains is unknown. UND has no record of any potentially hazardous substances being used to treat the associated funerary objects described.

Based on the information available, human remains representing, at least, one individual has been reasonably identified as being removed from a burial at site 32RM201, the “Lisbon Burial,” in Ransom County, ND. In 1974, the site was disturbed by gravelling operations; later, UND faculty member Kent Good oversaw excavation of the site. No associated funerary objects are present. The human remains were found in UND's Department of Anthropology in March 2022. UND has no record of any potentially hazardous substances being used to treat the human remains described.

Based on the information available, human remains representing at least one individual has been reasonably identified were removed from site 32SL1 in Slope County, ND. On July 7, 1977, as part the NPS Knife River Indian Villages/UND Field School, Stanley A. Ahler, former UND faculty member, and students conducted surface collection on the site. No associated funerary objects present. The human remains were found in UND's Department of Anthropology in March 2022. UND has no record of any potentially hazardous substances being used to treat the human remains described.

Based on the information available, human remains representing, at least, four individuals have been reasonably identified, along with one associated funerary object consisting of a dome-shaped bead, were removed from site 32SN22 in Stutsman County, ND, the “Jamestown Mounds.” In 1982, the State Historical Society of North Dakota excavated three burial mounds, and John A. Williams, then faculty at UND, participated in the analysis of the human remains. The human remains and associated funerary object from this site were found in UND's Department of Anthropology in March 2022. UND has no record of any potentially hazardous substances being used to treat the human remains or associated funerary object described.

Based on the information available, human remains representing, at least, one individual has been reasonably identified, along with three associated funerary objects consisting of faunal bone fragments, were removed from site 32SN103 in Stutsman County, ND. In August and November 1995, a survey of a mound group at the site was conducted by former UND Associate Research Archaeologist Cynthia Kordecki and Paul Picha from the State Historical Society of North Dakota. They noted “[c]ultural material observed in the disturbed area at the east end of the site” and while they collected bone, they stated “none of which is identified as human.” The human remains and associated funerary objects were found in UND's Department of Anthropology in March 2022. UND has no record of any potentially hazardous substances being used to treat the human remains or associated funerary objects described.

In June 1967, Kenneth Cole, former UND faculty member, conducted a survey at site 32WA1, Blasky or Fordville Mounds, in Walsh County, ND. The 12 associated funerary objects attributed to this survey, consisting of lithics, were found in UND's Department of Anthropology in March 2022. UND has no record of any potentially hazardous substances being used to treat the associated funerary objects described.

In 1967, Kenneth Cole, former UND faculty member, excavated a burial at site 32WA301, in Walsh County, ND, after human remains were removed from the land by the property owner. The 39 associated funerary objects, consisting of 29 faunal bone fragments, one center fragment of a bison horn, three ceramic sherds, two chipped stone tools, and four chipped stone flakes and flaking debris from this site were found in UND's Department of Anthropology in March 2022. The location of the human remains is unknown. UND has no record of any potentially hazardous substances being used to treat the associated funerary objects described.

Based on the information available, human remains representing, at least, eight individuals have been reasonably identified. The human remains were removed at an unknown time from an unknown location or locations by a person who is believed to be Edward A. Milligan, historian, North Dakota State School of Forestry, Bottineau, ND. They are marked with “Milligan” in black lettering. No associated funerary objects are present. The human remains were found in UND's Department of Anthropology in March 2022. UND has no record of any potentially hazardous substances being used to treat the human remains described.

Based on the information available, human remains representing, at least, two individuals have been reasonably identified. The human remains were removed at an unknown time by an unknown person, from an unknown location or locations. Many are marked “Ft. Totten” in thick black lines with smaller identification numbers. They were found in UND's Department of Anthropology in March 2022. No associated funerary objects are present. UND has no record of any potentially hazardous substances being used to treat the human remains described.

Based on the information available, human remains representing, at least, 28 individuals have been reasonably identified. The human remains were removed at an unknown time by an unknown person, from an unknown location or locations. At an unknown time by an unknown person or persons, the human remains were brought to UND. They were found in various locations around UND's campus and, after non-invasive analysis by a forensic anthropologist specializing in human osteology, they were determined to be, or possibly be, of Native American ancestry and have been excavated from undetermined archaeological sites. No associated funerary objects are present. UND has no record of any potentially hazardous substances being used to treat the human remains described.

Cultural Affiliation

Based on the information available and the results of consultation, cultural affiliation is reasonably identified by the geographical location of the human remains and associated funerary objects described in this notice.

Determinations

The University of North Dakota has determined that:

• The human remains described in this notice represent the physical remains of 52 individuals of Native American ancestry.

• The 946 objects described in this notice are reasonably believed to have been placed intentionally with or near individual human remains at the time of death or later as part of the death rite or ceremony.

• There is a reasonable connection between the human remains and associated funerary objects described in this notice and the Assiniboine and Sioux Tribes of the Fort Peck Indian Reservation, Montana; Cheyenne River Sioux Tribe of the Cheyenne River Reservation, South Dakota; Crow Creek Sioux Tribe of the Crow Creek Reservation, South Dakota; Crow Tribe of Montana; Eastern Shoshone Tribe of the Wind River Reservation, Wyoming; Flandreau Santee Sioux Tribe of South Dakota; Fort Belknap Indian Community of the Fort Belknap Reservation of Montana; Lower Brule Sioux Tribe of the Lower Brule Reservation, South Dakota; Lower Sioux Indian Community in the State of Minnesota; Northern Arapaho Tribe of the Wind River Reservation, Wyoming; Northern Cheyenne Tribe of the Northern Cheyenne Indian Reservation, Montana; Oglala Sioux Tribe; Prairie Island Indian Community in the State of Minnesota; Red Lake Band of Chippewa Indians, Minnesota; Rosebud Sioux Tribe of the Rosebud Indian Reservation, South Dakota; Shakopee Mdewakanton Sioux Community of Minnesota; Sisseton-Wahpeton Oyate of the Lake Traverse Reservation, South Dakota; Spirit Lake Tribe, North Dakota; Standing Rock Sioux Tribe of North & South Dakota; Three Affiliated Tribes of the Fort Berthold Reservation, North Dakota; Turtle Mountain Band of Chippewa Indians of North Dakota; Upper Sioux Community, Minnesota; and the Yankton Sioux Tribe of South Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 20, 2024. If competing requests for repatriation are received, the University of North Dakota must determine the most appropriate requestor prior to repatriation. Requests for joint repatriation of the human remains and associated funerary objects are considered a single request and not competing requests. The University of North Dakota is responsible for sending a copy of this notice to the Indian Tribes and Native Hawaiian organizations identified in this notice.

Authority: Native American Graves Protection and Repatriation Act, 25 U.S.C. 3003, and the implementing regulations, 43 CFR 10.10.

Dated: August 7, 2024.
Melanie O'Brien,
Manager, National NAGPRA Program.

[FR Doc. 2024-18681 Filed 8-20-24; 8:45 am]

BILLING CODE 4312-52-P